DEPARTMENT OF HOMELAND SECURITY

U.S. Customs and Border Protection

Approval of Intertek USA, Inc. (Baytown, TX) as a Commercial Gauger

AGENCY: U.S. Customs and Border Protection, Department of Homeland Security.

ACTION: Notice of approval of Intertek USA, Inc. (Baytown, TX) as a commercial gauger.

SUMMARY: Notice is hereby given, pursuant to CBP regulations, that Intertek USA, Inc. (Baytown, TX), has been approved to gauge petroleum and certain petroleum products for customs purposes for the next three years as of April 18, 2024.

DATES: Intertek USA, Inc. (Baytown, TX) was approved as a commercial gauger as of April 18, 2024. The next triennial inspection date will be scheduled for April 2027.

FOR FURTHER INFORMATION CONTACT: Dr. Eugene Bondoc, Laboratories and Scientific Services, U.S. Customs and Border Protection, 1331 Pennsylvania Avenue NW, Suite 1501-A North, Washington, DC 20004, tel. 202-344-1060.

SUPPLEMENTARY INFORMATION: Notice is hereby given pursuant to 19 CFR 151.13, that Intertek USA, Inc., 2612 West Main St., Baytown, TX 77520, has been approved to gauge petroleum and certain petroleum products for customs purposes, in accordance with the provisions of 19 CFR 151.13. Intertek USA, Inc. (Baytown, TX) is approved for the following gauging procedures for petroleum and certain petroleum products from the American Petroleum Institute (API):

API chapters | Title
3 | Tank Gauging.
7 | Temperature Determination.
8 | Sampling.
12 | Calculation of Petroleum Quantities.
17 | Marine Measurement.

Anyone wishing to employ this entity to conduct gauger services should request and receive written assurances from the entity that it is approved by the U.S. Customs and Border Protection to conduct the specific gauger service requested. Alternatively, inquiries regarding the specific gauger service this entity is approved to perform may be directed to the U.S. Customs and Border Protection by calling (202) 344-1060. The inquiry may also be sent to CBPGaugersLabs@cbp.dhs.gov. Please reference the website listed below for a complete listing of CBP approved gaugers and accredited laboratories. http://www.cbp.gov/about/labs-scientific/commercial-gaugers-and-laboratories.

Lina M. Acosta,
Acting Laboratory Director, Houston Laboratories and Scientific Services.

[FR Doc. 2025-12473 Filed 7-2-25; 8:45 am]

BILLING CODE 9111-14-P